EXPORT-IMPORT BANK

[Public Notice: 2024-6092]

Agency Information Collection Activities: Submission to the Office of Management and Budget for Review and Approval; Comment Request; EIB 92-27, Report of Overdue Accounts Under Short-Term Policies

AGENCY: Export-Import Bank of the United States.

ACTION: Submission for OMB review and comments request.

SUMMARY: The Export-Import Bank of the United States (EXIM), as a part of its continuing effort to reduce paperwork and respondent burden, invites the public and other Federal Agencies to comment on the proposed information collection, as required by the Paperwork Reduction Act of 1995.

DATES: Comments must be received on or before November 8, 2024 to be assured of consideration.

ADDRESSES: Comments may be submitted electronically on www.regulations.gov (EIB 92-27), by email to Tom Fitzpatrick tom.fitzpatrick@exim.gov, or by mail to Tom Fitzpatrick, Export-Import Bank of the United States, 811 Vermont Ave. NW, Washington, DC 20571.

FOR FURTHER INFORMATION CONTACT: To request additional information please contact Edward Coppola 202-565-3717.

The form can be viewed at https://img.exim.gov/s3fs-public/pub/pending/Report_of_Overdue_Accounts_eib92-27_2024_508.pdf.

SUPPLEMENTARY INFORMATION:

Title and Form Number: EIB 92-27, Report of Overdue Accounts Under Short-Term Policies.

OMB Number: 3048-0027.

Type of Review: Regular.

Need and Use: The collection provides EXIM staff with the information necessary to monitor the borrower's payments for exported goods covered under its short- and medium term export credit insurance policies. It also alerts Ex-Im Bank staff of defaults, so they can manage the portfolio in an informed manner.

Affected Public: This form affects entities involved in the export of U.S. goods and services.

Annual Number of Respondents: 745.

Estimated Time per Respondent: 15 minutes.

Annual Burden Hours: 186.25 hours.

Frequency of Reporting or Use: Monthly, until completed.

Andrew Smith,
Records Officer.

[FR Doc. 2024-20181 Filed 9-6-24; 8:45 am]

BILLING CODE 6690-01-P